DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2015, there were nine applications approved. This notice also includes information on two applications, one approved in May 2012 and the other disapproved in November 2014, inadvertently left off the May 2012 and November 2014 notices, respectively. Additionally, three approved amendments to previously approved applications are listed.

SUMMARY: The FAA publishes a monthly notice, as appropriate, of PFC approvals and disapprovals under the provisions of the Aviation Safety and Capacity Expansion Act of 1990 (title IX of the Omnibus Budget Reconciliation Act of 1990) (Pub. L. 101-508) and part 158 of the Federal Aviation Regulations (14 CFR part 158). This notice is published pursuant to paragraph d of § 158.29.

PFC Application Disapproved

Public Agency: The Pennsylvania State University, State College, Pennsylvania.

Application Number: 15-06-C-00-UNV.

Application type: Impose and use a PFC.

Reason for Disapproval: The Centre County Airport Authority has exclusive control of the terminal complex at University Park Airport (UNV) while the Pennsylvania State University (PSU) has exclusive control of the airfield. The FAA has determined that both organizations operate independently of each other. Since the proposed PFC application, submitted by the PSU, included projects that would impact both airfield and terminal areas, the FAA concluded that the existing arrangement between the two entities contravenes the public agency's obligations under the PFC assurances, including requisite legal authority to impose a PFC to finance and carry out the proposed projects. Therefore, the FAA could not approve PSU's PFC application.

Decision date: November 20, 2014.

FOR FURTHER INFORMATION CONTACT: Lori Ledebohm, Harrisburg Airports District Office, (717) 730-2835.

PFC Applications Approved

Public Agency: Town of Islip, New York.

Application Number: 12-07-C-00-ISP.

Application Type: Impose and use a PFC.

PFC Level: $4.50.

Total PFC Revenue Approved in this Decision: $6,492,764.

Earliest Charge Effective Date: August 1, 2015.

Estimated Charge Expiration Date: August 1, 2017.

Class of Air Carriers Not Required To Collect PFC'S: Non-scheduled/on demand air carriers filing FAA Form 1800-31.

Determination: Approved. Based on information submitted in the public agency's application, the FAA has determined that the approved class accounts for less than 1 percent of the total annual enplanements at Long Island MacArthur Airport (ISP).

Brief Description of Projects Approved for Collection at ISP and Use at ISP:

Signage improvements.

Install miscellaneous navigational aids.

Construct parallel taxiway D.

Runway 24 centerline/touchdown zone/runway guard lights.

Glycol treatment plant preliminary engineering.

Rehabilitate portions of runway 06/24.

Re-cable portions of runway 06/24.

Sprinkler system, main terminal.

Acquire snow broom replacement.

Acquire airfield deicing vehicle.

Construct underground glycol treatment plant—engineering design only.

Aviation demand update.

Conduct wildlife hazard assessment study.

Taxiways B, D and A design.

Perform airport master plan update and geographic information system work.

Extend taxiway B from C/B3 to runway 33L and realign taxiway E between taxiway S and runway 33L.

Construct glycol containment and treatment system.

Replace airfield electrical vault design.

Replace security system hardware.

Purchase and install jet bridge.

PFC application development.

PFC program application/administrative costs.

Purchase snow removal equipment.

Purchase four patrol vehicles.

West apron rehabilitation.

West concourse airside baggage claim access road.

Purchase two runway and apron vacuum sweepers.

Passenger seating replacement.

Design general aviation customs and border protection facility.

Brief Description of Projects Approved for Collection at ISP and Use at Bayport Aerodrome (23N):

Obstruction removal.

Design upgrade to airport perimeter fence.

Brief Description of Projects Partially Approved for Collection at ISP and Use at ISP: Construct taxiway G from runway 06 to taxiway W.

Determination: The application was submitted with project costs based on estimates. Before the FAA issued its PFC decision, the FAA became aware that the actual bid costs were less than the amount requested in the PFC application. Therefore, the FAA limited the PFC amount based on the actual bid costs.

Construct new aircraft rescue and firefighting building design.

Determination: The application was submitted with project costs based on estimates. Before the FAA issued its PFC decision, the FAA became aware that the actual bid costs were less than the amount requested in the PFC application. Therefore, the FAA limited the PFC amount based on the actual bid costs.

Brief Description of project Partially Approved for Collection at ISP and Use at 23N: Replace existing perimeter fence including two gates.

Determination: The application was submitted with project costs based on estimates. Before the FAA issued its PFC decision, the FAA became aware that the actual bid costs were less than the amount requested in the PFC application. Therefore, the FAA limited the PFC amount based on the actual bid costs.

Brief Description of Project Partially Approved for Collection at ISP for Future Use at ISP: Design obstruction removal.

Brief Description of Disapproved Projects:

Replace runway sprinkler pump station at 23N.

Design replacement sprinkler system at 23N.

Replace sprinkler system, phase I, at 23N.

Determination: The FAA determined that these three projects were maintenance items and, thus, did not meet the requirements of § 158.15(b). Therefore, these projects were disapproved.

Decision Date: May 11, 2012.

FOR FURTHER INFORMATION CONTACT: Andrew Brooks, New York Airports District Office, (516) 227-3816.

Public Agency: Fort Wayne—Allen County Airport Authority, Fort Wayne, Indiana.

Application Number: 15-04-C-00-FWA.

Application Type: Impose and use a PFC.

PFC Level: $4.50.

Total PFC REvenue Approved in This Decision: $4,055,000.

Earliest Charge Effective Date: March 1, 2018.

Estimated Charge Expiration Date: July 1, 2021.

Class of Air Carriers Not Required To Collect PFC'S: Nonscheduled/on-demand operators filing FAA Form 1800-31 that (1) by Federal regulation are not required to report passenger statistics to the Federal government and (2) enplane 10 or fewer passengers per flight that is operated from Fort Wayne International Airport (FWA).

Determination: Approved. Based on information submitted in the public agency's application, the FAA has determined that the approved class accounts for less than 1 percent of the total annual enplanements at FWA.

Brief Description of Projects Approved for Collection and Use:

Replace jet bridge 5.

Upgrade public address system to digital.

Snow removal vehicle with plow and mid-mount broom attachments.

Snow removal vehicle with plow and mid-mount broom attachments.

Replace jet bridge 7.

High speed runway snow broom.

Commercial aircraft deicer.

Terminal building planning study.

Replace shared use infrastructure technology environment equipment.

Decision Date: January 6, 2015.

FOR FURTHER INFORMATION CONTACT: Michael Brown, Chicago Airports District Office, (847) 294-7195.

Public Agency: Bishop International Airport Authority, Flint, Michigan.

Application Number: 14-02-C-00-FNT.

Application Type: Impose and use a PFC.

PFC Level: $4.50.

Total PFC Revenue Approved in This Decision: $11,859,545.

Earliest Charge Effective Date: January 1, 2018.

Estimated Charge Expiration Date: August 1, 2024.

Class of Air Carriers Not Required To Collect PFC'S: Non-scheduled/on demand air taxi operators filing FAA Form 1800-31.

Determination: Approved. Based on information submitted in the public agency's application, the FAA has determined that the approved class accounts for less than 1 percent of the total annual enplanements at Bishop International Airport.

Brief Description of Projects Approved for Collection and Use:

Sand storage building.

Removal of runway 5/23.

Taxiway B construction.

Cargo apron rehabilitation and conversion to deicing pad.

Terminal improvements.

Terminal expansion.

Acquisition and installation of passenger boarding bridges.

Terminal apron rehabilitation.

Decision Date: January 6, 2015.

FOR FURTHER INFORMATION CONTACT: Irene Porter, Detroit Airports District Office, (734) 229-2915.

Public Agency: City of Pueblo, Colorado.

Application Number: 15-03-C-00-PUB.

Application Type: Impose and use a PFC.

PFC Level: $4.50.

Total PFC Revenue Approved in This Decision: $833,789.

Earliest Charge Effective Date: March 1, 2015.

Estimated Charge Expiration Date: April 1, 2036.

Class of Air Carriers Not Required To Collect PFC'S: None.

Brief Description of Projects Approved for Collection and Use:

Rehabilitate runway 8L/26R and transition of crosswind runway 17/35.

Improve runway 8R/26L runway safety area.

Construct replacement training runway.

Rehabilitate general aviation parking apron.

Conduct wildlife hazard assessments.

Acquire aircraft rescue and firefighting vehicle.

Rehabilitate taxiway (portions of taxiways A and A9).

Rehabilitate taxiway D.

PFC administration fees.

Decision Date: January 7, 2015.

FOR FURTHER INFORMATION CONTACT: Jesse Lyman, Denver Airports District Office, (303) 342-1262.

Public Agency: City of New Orleans and New Orleans Aviation Board, New Orleans, Louisiana.

Application Number: 14-11-C-00-MSY.

Application Type: Impose and use a PFC.

PFC Level: $3.00.

Total PFC Revenue Approved in This Decision: $400,733,236.

Earliest Charge Effective Date: February 1, 2026.

Estimated Charge Expiration Date: September 1, 2043.

Class of Air carriers Not Required To Collect PFC'S: On-demand air taxi/commercial operations.

Determination: Approved. Based on information submitted in the public agency's application, the FAA has determined that the approved class accounts for less than 1 percent of the total annual enplanements at Louis Armstrong New Orleans International Airport.

Brief Description of Projects Approved for Collection and Use at a $4.50 PFC Level:

Airfield electrical design and construction.

Perimeter fencing replacement construction.

Airfield pavement rehabilitation design and construction.

Brief Description of Projects Approved for Collection and Use at a $3.00 PFC Level:

Land use and development study.

Long term development feasibility study.

Drainage pumping station design and construction.

Brief Description of Projects Partially Approved for Collection and Use at a $3.00 PFC Level: Airfield pavement condition study.

Determination: The FAA reviewed the scope of the project and found that the following work elements do not meet the requirements of § 158.15(b). Therefore, PFC revenue cannot be used on these elements: (1) Micro Paver software (or an approved equal); (2) onsite training to airport staff; and (3) preparing an airfield signage plan showing the plan location of the airfield signs, depicting sign type, style, size, model, etc.

Long term planning study.

Determination: The FAA reviewed the supporting documentation and found that the documentation supported only $6,801,500 in total project costs and not the $7,551,500 amount shown in the PFC application.

Long term development program—terminal design and construction.

Determination: The FAA partially approved this project for two reasons. (1) The FAA reviewed the scope of the project and found that the following work elements did not meet the requirements of § 158.15(b): airport administration (operations offices), baggage service offices, airline ticket offices, Transportation Security Administration offices, loading dock, storage, police station, central baggage inspection system equipment (build out and equipment), and escalation and contingency fees. (2) The public agency did not include a letter from Customs and Border Control certifying that the Federal Inspection Services (FIS) facility is sized to the staffing levels that will be provided. Therefore, the FAA was not able to verify that the space requested was the minimum necessary as required in Table N-5 (1) of FAA Order 5100.38D, Airport Improvement Program (AIP) Handbook, (September 30, 2014). Therefore, PFC revenue cannot be used on items relating to the FIS facility.

Long term development program—airside design and construction.

Determination: The FAA reviewed the scope of the project and found that the use of PFC revenue for contingencies does not meet the requirements of § 158.15(b). Therefore, the public agency may not use PFC revenue for contingencies.

Long term development program—landside design and construction.

Determination: The FAA reviewed the scope of the project and found that the following work elements do not meet the requirements of § 158.15(b). Therefore, the public agency may not use PFC revenue on the following elements: contingencies; parking structure(s); hotel infrastructure; access roads (off-airport); landscaping within site development; surface parking; and utilities.

Brief Description of Disapproved Project: Access road improvements, design and construction.

Determination: Table P-3(a)(6) of FAA Order 5100.38D, AIP Handbook, (September 30, 2014), requires that eligible access roads must exclusively serve airport traffic. This means that an access road that serves both airport traffic and non-airport traffic cannot be prorated. In mixed use situations of airport/non-airport use, only the portion of the road that is beyond the non-airport access point is eligible. In this case, the proposed road is not beyond the non-airport access point and, therefore, the road is not PFC-eligible.

Brief Description of Withdrawn Project: Airfield lighting vault.

Date of Withdrawal: September 3, 2014.

Decision Date: January 9, 2015.

FOR FURTHER INFORMATION CONTACT: Bill Bell, Louisiana/New Mexico Airports Development Office, (817) 222-5664.

Public Agency: City of Albany, Georgia.

Application Number: 15-07-C-00-ABY.

Application Type: Impose and use a PFC.

PFC Level: $4.50.

Total PFC Revenue Approved in This Decision: $105,777.

Earliest Charge Effective Date: April 1, 2015.

Estimated Charge Expiration Date: June 1, 2016.

Class of Air Carriers Not Required To Collect PFC'S: Air taxi/commercial operators filing FAA Form 1800-31 and operating at Southwest Georgia Regional Airport (ABY).

Determination: Approved. Based on information submitted in the public agency's application, the FAA has determined that the approved class accounts for less than 1 percent of the total annual enplanements at ABY.

Brief Description of Projects Approved for Collection and Use:

Wildlife hazard assessment.

Commercial apron expansion.

Brief Description of Project Partially Approved for Collection and Use: Communications building (new equipment shelter).

Determination: The FAA determined that only the demolition of the old terminal building and relocation of the FAA communications equipment were PFC eligible.

Decision Date: January 12, 2015.

FOR FURTHER INFORMATION CONTACT: Parks Preston, Atlanta Airports District Office, (404) 305-7149.

Public Agency: Des Moines Airport Authority, Des Moines, Iowa.

Application Number: 15-14-C-00-DSM.

Application Type: Impose and use a PFC.

PFC Level: $4.50.

Total PFC Revenue Approved in This Decision: $6,865,187.

Earliest Charge Effective Date: December 1, 2020.

Estimated Charge Expiration Date: April 1, 2022.

Class of Air Carriers Not Required To Collect PFC'S: Air taxi/commercial operators filing FAA Form 1800-31.

Determination: Approved. Based on information submitted in the public agency's application, the FAA has determined that the approved class accounts for less than 1 percent of the total annual enplanements at Des Moines International Airport.

Brief Description of Projects Approved for Collection and Use:

Pre-conditioned air units affixed to boarding bridges.

Terminal area concept plan.

Terminal capacity improvement project.

Aircraft rescue and firefighting vehicle.

Aircraft rescue and firefighting building communication upgrade.

Aircraft rescue and firefighting road construction.

Runway 13/31 reconstruction.

Decision Date: January 15, 2015.

FOR FURTHER INFORMATION CONTACT: Sheila Bridges, Central Region Airports Division, (816) 329-2638.

Public Agency: Spokane Airport Board, Spokane, Washington.

Application Number: 15-10-C-00-GEG.

Application Type: Impose and use a PFC.

PFC Level: $4.50.

Total PFC Revenue Approved in This Decision: $15,036,120.

Earliest Charge Effective Date: July 1, 2015.

Estimated Charge Expiration Date: July 1, 2018.

Class of Air Carriers Not Required To Collect PFC'S: None.

Brief Description of Projects Approved for Collection and Use:

Terminal area plan (planning study).

Airfield perimeter security enhancement.

Replacement of flight information display systems and related flight announcement systems.

Terminal access control enhancements.

Glycol recovery solution design.

Elevator replacement.

PFC application and administration fees.

Brief Description of Withdrawn Projects:

Aircraft rescue and firefighting vehicle replacement.

Land acquisition.

Date of Withdrawal: December 5, 2014.

Decision Date: January 16, 2015.

FOR FURTHER INFORMATION CONTACT: Andrew Edstrom, Seattle Airports District Office, (425) 227-2641.

Public Agency: Hall County Airport Authority, Grand Island, Nebraska.

Application Number: 15-04-C-00-GRI.

Application Type: Impose and use a PFC.

PFC level: $4.50.

Total PFC Revenue Approved in This Decision: $3,711,558.

Earliest Charge Effective Date: May 1, 2016.

Estimated Charge Expiration Date: March 1, 2031.

Class of Air Carriers Not Required To Collect PFC'S: None.

Brief Description of Projects Approved for Collection and Use:

Terminal area master plan.

Conduct environmental assessment.

Improve terminal building—phase 1, engineering services.

Improve terminal building—phase 2, construction.

Decision Date: January 20, 2015.

FOR FURTHER INFORMATION CONTACT: Sheila Bridges, Central Region Airports Division, (816) 329-2638.

Public Agency: City of Eugene, Oregon.

Application Number: 15-12-C-00-EUG.

Application Type: Impose and use a PFC.

PFC Level: $4.50.

Total PFC Revenue Approved in This Decision: $5,422,230.

Earliest Charge Effective Date: June 1, 2015.

Estimated Charge Expiration Date: January 1, 2019.

Class of Air Carriers Not Required To Collect PFC'S: Nonscheduled/on-demand air carriers filing FAA Form 1800-31.

Determination: Approved. Based on information submitted in the public agency's application, the FAA has determined that the approved class accounts for less than 1 percent of the total annual enplanements at Eugene Airport—Mahlon Sweet Field.

Brief Description of Projects Approved for Collection and Use:

Access control upgrade and installation.

B-3 ramp rehabilitation.

Terminal roof replacement.

Gate A1 jet bridge.

PFC administration costs.

Decision Date: January 23, 2015.

FOR FURTHER INFORMATION CONTACT: Andrew Edstrom, Seattle Airports District Office, (425) 227-2641.

Amendments to PFC Approvals
Amendment No., city, state | Amendment approved date | Original approved net PFC revenue | Amended approved net PFC revenue | Original estimated charge exp. date | Amended estimated charge exp. date
08-09-C-03-STL, St. Louis, MO | 01/07/15 | $758,497,059 | $747,211,611 | 10/01/26 | 04/01/26
08-04-C-01-HLN, Helena, MT | 01/07/15 | 893,513 | 893,476 | 07/01/17 | 02/01/16
12-04-C-01-TWF, Twin Falls, ID | 01/15/15 | 543,523 | 556,066 | 06/01/16 | 06/01/17

Issued in Washington, DC on February 9, 2015.
Joe Hebert,
Manager, Financial Analysis and Passenger Facility Charge Branch.

[FR Doc. 2015-03063 Filed 2-12-15; 8:45 am]

BILLING CODE 4910-13-P